DEPARTMENT OF COMMERCE

International Trade Administration

Export Trade Certificate of Review

ACTION: Notice of issuance of an amended Export Trade Certificate of Review, Application No.: 97-8A003.

SUMMARY: The U.S. Department of Commerce issued an amended Export Trade Certificate of Review to the Association for the Administration of Rice Quotas, Inc. (“AARQ”) on February 14, 2005. The Certificate has been amended eight times. The most recent previous amendment was issued to AARQ on March 3, 2004, and published in the Federal Register March 18, 2004 (69 FR 12831). The original Export Trade Certificate of Review No. 97-00003 was issued to AARQ on January 21, 1998, and published in the Federal Register on January 28, 1998 (63 FR 4220).

FOR FURTHER INFORMATION CONTACT: Jeffrey Anspacher, Director, Export Trading Company Affairs, International Trade Administration, by telephone at (202) 482-5131 (this is not a toll-free number) or by e-mail at oetca@ita.doc.gov.

SUPPLEMENTARY INFORMATION: Title III of the Export Trading Company Act of 1982 (15 U.S.C. 4001-21) authorizes the Secretary of Commerce to issue Export Trade Certificates of Review. The regulations implementing Title III are found at 15 CFR part 325 (2005).

Export Trading Company Affairs is issuing this notice pursuant to 15 CFR 325.6(b), which requires the Department of Commerce to publish a summary of the certification in the Federal Register. Under section 305(a) of the Act and 15 CFR 325.11(a), any person aggrieved by the Secretary's determination may, within 30 days of the date of this notice, bring an action in any appropriate district court of the United States to set aside the determination on the ground that the determination is erroneous.

Description of Amended Certificate

AARQ's Export Trade Certificate of Review has been amended to:

1. Reflect the name, address, and corporate changes as follows: “American Rice, Inc., Houston, Texas” is amended to read “American Rice, Inc., Houston Texas (a subsidiary of SOS Cuetara USA, Inc.)” due to a corporate acquisition. “Kitoku America, Inc., Davis, California (a subsidiary of Kitoku Shinryo Co., Ltd.)” is amended to read “Kitoku America, Inc., Burlingame, California (a subsidiary of Kitoku Shinryo Co., Ltd. (Japan))” due to an address change. “Mermentau Rice, Inc., Mermentau, Louisiana” is amended to read “Louisiana Rice Mill, LLC, Mermentau, Louisiana” due to a corporate name change. “Newfieldrice, Inc., Miami, Florida” is amended to read “Newfieldrice, Inc., Miramar, Florida” due to an address change. “Nishimoto Trading Company, Ltd., Los Angeles, California (a subsidiary of Nishimoto Trading Company, Ltd. (Japan))” is amended to read “Nishimoto Trading Co., Ltd., Santa Fe Springs, California (a subsidiary of Nishimoto Trading Company, Ltd. (Japan))” due to an address change. “Riviana Foods, Inc. Houston, Texas” is amended to read “Riviana Foods Inc., Houston, Texas (a subsidiary of Ebro Puleva, S.A. (Spain))” due to a corporate acquisition.

2. Delete the following companies as Members of the Certificate: “ACH Food Companies, Inc., Cordova, Tennessee,” and “KD International Trading, Inc., Stockton, California (a subsidiary of Sunshine Business Enterprises, Inc.).”

In addition to the above, the Export Trade Activities and Methods of Operation of AARQ's Certificate have been updated to delete obsolete references to AARQ's earlier years of operation. Also, for clarification regarding the disposition of left over quantities from the bidding process, the following text has been added to item 2.F.(a) of the Export Trade Activities and Methods of Operation: “In the event fewer than 18 metric tons remain at the conclusion of the bidding process, the Administrator shall first offer the remaining quantity in succession to each of the next highest bidders, and then in succession from the highest to the lowest successful bidder(s).”

The effective date of the amended certificate is November 17, 2004. A copy of the amended certificate will be kept in the International Trade Administration's Freedom of Information Records Inspection Facility, Room 4001, U.S. Department of Commerce, 14th Street and Constitution Avenue, NW., Washington, DC 20230.

Dated: February 16, 2005.
Jeffrey Anspacher,
Director, Export Trading Company Affairs.

[FR Doc. E5-739 Filed 2-22-05; 8:45 am]

BILLING CODE 3510-DR-P